DEPARTMENT OF ENERGY

Federal Energy Regulatory Commission

Combined Notice of Filings #2

Take notice that the Commission received the following exempt wholesale generator filings:

Docket Numbers: EG15-121-000.

Applicants: Green Mountain Storage, LLC.

Description: Notice of Self-Certification of Exempt Wholesale Generator Status of Green Mountain Storage, LLC.

Filed Date: 9/2/15.

Accession Number: 20150902-5169.

Comments Due: 5 p.m. ET 9/23/15.

Docket Numbers: EG15-122-000.

Applicants: Meyersdale Storage, LLC.

Description: Notice of Self-Certification of Exempt Wholesale Generator Status of Meyersdale Storage, LLC.

Filed Date: 9/2/15.

Accession Number: 20150902-5204.

Comments Due: 5 p.m. ET 9/23/15.

Take notice that the Commission received the following electric rate filings:

Docket Numbers: ER15-1853-001.

Applicants: Midcontinent Independent System Operator, Inc.

Description: Compliance filing: 2015-09-02_Compliance SA 2791 Ameren Illinois-FutureGen GIA (J239) to be effective 8/4/2015.

Filed Date: 9/2/15.

Accession Number: 20150902-5140.

Comments Due: 5 p.m. ET 9/23/15.

Docket Numbers: ER15-2361-001.

Applicants: Southwest Power Pool, Inc.

Description: Tariff Amendment: 3065 Montana-Dakota Utilities Co. Market Participant Agreement to be effective 10/1/2015.

Filed Date: 9/2/15.

Accession Number: 20150902-5163.

Comments Due: 5 p.m. ET 9/23/15.

Docket Numbers: ER15-2598-000.

Applicants: New England Power Company.

Description: § 205(d) Rate Filing: Amended Small Generator Interconnection Agmt with Vuelta Solar & CEII Request to be effective 8/5/2015.

Filed Date: 9/2/15.

Accession Number: 20150902-5157.

Comments Due: 5 p.m. ET 9/23/15.

Docket Numbers: ER15-2599-000.

Applicants: New England Power Company.

Description: § 205(d) Rate Filing: Amended Small Generator Interconnection Agmt with Old Wardour & CEII Request to be effective 8/5/2015.

Filed Date: 9/2/15.

Accession Number: 20150902-5164.

Comments Due: 5 p.m. ET 9/23/15.

Docket Numbers: ER15-2600-000.

Applicants: New York State Electric & Gas Corporation.

Description: § 205(d) Rate Filing: Engineering, Procurement, & Construction Agreement with Black Oak Wind Farm to be effective 8/18/2015.

Filed Date: 9/2/15.

Accession Number: 20150902-5193.

Comments Due: 5 p.m. ET 9/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2015.
Nathaniel J. Davis, Sr.,
Deputy Secretary.

[FR Doc. 2015-22738 Filed 9-9-15; 8:45 am]

BILLING CODE 6717-01-P